DEPARTMENT OF TRANSPORTATION

Federal Aviation Administration

14 CFR Part 39

[Docket No. 2003-CE-44-AD; Amendment 39-13348; AD 2003-22-01]

RIN 2120-AA64

Airworthiness Directives; Aerostar Aircraft Corporation Models PA-60-600, PA-60-601, PA-60-601P, PA-60-602P, and PA-60-700P Airplanes

AGENCY: Federal Aviation Administration (FAA), DOT.

ACTION: Final rule; request for comments.

SUMMARY: The FAA is adopting a new airworthiness directive (AD) for all Aerostar Aircraft Corporation (Aerostar) Models PA-60-600, PA-60-601, PA-60-601P, PA-60-602P, and PA-60-700P airplanes that incorporate supplemental type certificate (STC) SA1608NM (Machen Inc. Kit No. 76-1 Auxiliary Fuel Tank). This AD requires you to repetitively inspect all auxiliary fuel transfer pumps for leaks, seeping, or any sign of staining. This AD also requires you to replace any pump found with leaks, seeping, and any sign of staining. This AD is the result of reports of fuel leaking from the fuel transfer pumps installed below the auxiliary fuel tank. We are issuing this AD to detect and correct leaks in the auxiliary fuel transfer pumps, which could result in fire or explosion in the cargo/passenger compartment. Such a condition could result in loss of the airplane.

DATES: This AD becomes effective on November 17, 2003.

The Director of the Federal Register approved the incorporation by reference of certain publications listed in the regulation as of November 17, 2003.

We must receive any comments on this AD by December 23, 2003.

ADDRESSES: Use one of the following to submit comments on this AD:

• By mail: FAA, Central Region, Office of the Regional Counsel, Attention: Rules Docket No. 2003-CE-44-AD, 901 Locust, Room 506, Kansas City, Missouri 64106.

• By fax: (816) 329-3771.

• By e-mail: 9-ACE-7-Docket@faa.gov. Comments sent electronically must contain “Docket No. 2003-CE-44-AD” in the subject line. If you send comments electronically as attached electronic files, the files must be formatted in Microsoft Word 97 for Windows or ASCII.

You may get the service information identified in this AD from Machen Inc., 10555 Airport Drive, Hayden Lake, Idaho 83835; telephone: (208) 762-7814; facsimile: (208) 762-8349.

You may view the AD docket at FAA, Central Region, Office of the Regional Counsel, Attention: Rules Docket No. 2003-CE-44-AD, 901 Locust, Room 506, Kansas City, Missouri 64106. Office hours are 8 a.m. to 4 p.m., Monday through Friday, except Federal holidays.

FOR FURTHER INFORMATION CONTACT: Richard Simonson, Aerospace Engineer, FAA, Seattle Aircraft Certification Office, 1601 Lind Avenue SW., Renton, Washington 98055; telephone: (425) 917-6507; facsimile: (425) 917-6590.

SUPPLEMENTARY INFORMATION:

Discussion

What events have caused this AD? We have received reports of fuel leaks in the fuel transfer pumps on the auxiliary fuel tank installed in the baggage compartment per STC SA1608NM on Aerostar Models PA-60-600, PA-60-601, PA-60-601P, PA-60-602P, and PA-60-700P airplanes. The leaks were discovered through normal maintenance.

The problem is the result of fuel seeping through the wire insulation on the auxiliary fuel tank transfer pump and running out through the knife splice connection.

What are the consequences if the condition is not corrected? This condition, if not detected and corrected, could result in fire or explosion in the cargo/passenger compartment. Such a condition could result of loss of the airplane.

Is there service information that applies to this subject? Machen Inc. has issued Service Bulletin SB76-009, dated August 1, 2003.

What are the provisions of this service information? The service bulletin includes procedures for:

—Repetitively inspecting the auxiliary fuel tank transfer pumps for leaks, seeping, and any sign of staining; and

—Replacing any pump found with leaks, seeping, and any sign of staining.

FAA's Determination and Requirements of the AD

What has FAA decided? We have evaluated all pertinent information and identified an unsafe condition that is likely to exist or develop on other products of this same type design.

Since the unsafe condition described previously is likely to exist or develop on other Aerostar Models PA-60-600, PA-60-601, PA-60-601P, PA-60-602P, and PA-60-700P airplanes of the same type design with STC SA1608NM installed, this AD is being issued to detect and correct leaks in the auxiliary fuel transfer pumps, which could result in fire or explosion in the cargo/passenger compartment. Such a condition could result of loss of the airplane.

What does this AD require? This AD requires you to incorporate the actions in the previously-referenced service bulletin.

In preparation of this rule, we contacted type clubs and aircraft operators to obtain technical information and information on operational and economic impacts. We did not receive any information through these contacts. If received, we would have included, in the rulemaking docket, a discussion of any information that may have influenced this action.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment prior to the issuance of the rule? This AD is a final rule that involves requirements affecting flight safety and was not preceded by notice and an opportunity for public comment; however, we invite you to submit any written relevant data, views, or arguments regarding this AD. Send your comments to an address listed under ADDRESSES. Include “AD Docket No. 2003-CE-44-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-44-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2003-22-01 Aerostar Aircraft Corporation: Amendment 39-13348; Docket No. 2003-CE-44-AD.

When Does This AD Become Effective?

(a) This AD becomes effective on November 17, 2003.

Are Any Other ADs Affected by This Action?

(b) None.

What Airplanes Are Affected by This AD?

(c) This AD affects the following airplane models that are:

(1) Modified to incorporate supplemental type certificate (STC) SA1608NM (Machen Inc. Kit No. 76-1, Auxiliary Fuel Tank); and

(2) certificated in any category.

Model | Serial Nos.
PA-60-600 | All.
PA-60-601 | All.
PA-60-601P | All.
PA-60-602P | All.
PA-60-700P | All.

What Is the Unsafe Condition Presented in This AD?

(d) This AD is the result of reports of fuel leaking from the fuel transfer pumps. We are issuing this AD to detect and correct leaks in the auxiliary fuel transfer pumps, which could result in fire or explosion in the cargo/passenger compartment. Such a condition could result of loss of the airplane.

What Must I Do To Address This Problem?

(e) To address this problem, you must accomplish the following:

Actions | Compliance | Procedures
(1) Inspect all auxiliary fuel tank transfer pumps for leaking, seeping, and any signs of staining | Within the next 10 hours time-in-service (TIS) after November 17, 2003 (the effective date of this AD). Repetitively inspect thereafter at intervals not to exceed 50 hours TIS | In accordance with Machen Inc. Service Bulletin SB 76-009, dated August 1, 2003.
(2) Replace any auxiliary fuel transfer pump that is leaking, seeping, or has any signs of staining | Prior to further flight after any inspection required in paragraph (e)(1) of this AD in which leaking, seeping, or any signs of staining is found | In accordance with Machen Inc. Service Bulletin SB 76-009, dated August 1, 2003.

What About Alternative Methods of Compliance?

(f) You may request a different method of compliance or a different compliance time for this AD by following the procedures in 14 CFR 39.13. Send your request to the Manager, Seattle ACO, FAA. For information on any already approved alternative methods of compliance, contact Richard Simonson, Aerospace Engineer, FAA, Seattle Aircraft Certification Office, 1601 Lind Avenue SW, Renton, Washington 98055; telephone: (425) 917-6507; facsimile: (425) 917-6590.

Is There Material Incorporated by Reference?

(g) You must do the actions required by this AD per Machen Inc. Service Bulletin SB 76-009, dated August 1, 2003. The Director of the Federal Register approved the incorporation by reference of this service bulletin in accordance with 5 U.S.C. 552(a) and 1 CFR part 51. You may get a copy from Machen Inc., 10555 Airport Drive, Hayden Lake, Idaho 83835; telephone: (208) 762-7814; facsimile: (208) 762-8349. You may review copies at FAA, Central Region, Office of the Regional Counsel, 901 Locust, Room 506, Kansas City, Missouri 64106; or at the Office of the Federal Register, 800 North Capitol Street, NW, suite 700, Washington, DC.

Issued in Kansas City, Missouri, on October 17, 2003.
Michael Gallagher,
Manager, Small Airplane Directorate, Aircraft Certification Service.

[FR Doc. 03-26833 Filed 10-27-03; 8:45 am]

BILLING CODE 4910-13-P